DEPARTMENT OF HEALTH AND HUMAN SERVICES

Office of Inspector General

Healthcare Integrity and Protection Data Bank: Announcement of Proactive Disclosure Service Opening Date and User Fees

AGENCY: Office of Inspector General (OIG), HHS.

ACTION: Notice.

SUMMARY: The Office of Inspector General (OIG) is announcing the availability of a Proactive Disclosure Service (PDS) Prototype for customers of the Healthcare Integrity and Protection Data Bank (HIPDB). The PDS was developed for the National Practitioner Data Bank (NPDB) in response to customers' interest in real-time monitoring of practitioner credentials. As a result of the technical interoperability of the NPDB and HIPDB, the PDS feature is also being made available to HIPDB customers.

DATES: This fee will be effective June 11, 2007.

FOR FURTHER INFORMATION CONTACT: Joel Schaer, OIG Office of External Affairs, (202) 619-0089, or Mark Pincus, HRSA, Bureau of Health Professions, (301) 443-2300.

SUPPLEMENTARY INFORMATION: The PDS has been initially offered as a prototype to authorized NPDB entities, as set forth in a HRSA notice published in the Federal Register on March 7, 2007 (72 FR 10227). In accordance with implementation of the PDS prototype, authorized HIPDB customers can also now choose to enroll all of their practitioners, providers, and suppliers in PDS, or enroll some of their practitioners, providers, and suppliers while continuing to periodically query on others using the regular query methods. Customers with PDS-enrolled subjects will be notified within one business day of the HIPDB's receipt of a report on any of their enrollees. While customers can expect to receive reports sooner with PDS, the format of and information contained in a report will remain the same.

The annual subscription fee during the prototype period will be $3.25 per practitioner, provider, or supplier. The rate is subject to change after the prototype period is complete. The query fee for periodic queries will continue to remain at $4.75 per name.

PDS Enrollment Availability

The PDS prototype became available to NPDB queries effective April 30, 2007. An invitation to participate in this prototype was extended first to organizations that assisted HRSA with designing and pricing, which occurred between 2003 and 2005. All entities registered with the HIPDB and/or the NPDB have been invited to participate to meet a predetermined number for subjects to be monitored. Once this number is achieved, enrollment in the prototype will close. It is anticipated that the PDS prototype period will last approximately 18 to 24 months before it is opened to all authorized Data Bank entities.

User Fee Amount

An annual subscription fee of $3.25 per subject will be charged upon enrollment. This fee includes the cost of an initial query, which automatically will be incurred when a subject is first enrolled, and all reports received on the enrolled subject over the course of the one-year subscription period. The fee was determined through economic analysis of the average annual rate of queries performed by health care entities in relationship to the current query fee that is based on the actual cost for services. The Department will accept payment for the subscription fee from entities via credit card or electronic funds transfer. When the prototype period concludes, the Department may change the subscription fee. Any changes will be announced through notice in the Federal Register.

Dated: May 14, 2007.
Daniel R. Levinson,
Inspector General.

[FR Doc. E7-11207 Filed 6-8-07; 8:45 am]

BILLING CODE 4152-01-P